COMMITTEE FOR PURCHASE FROM PEOPLE WHO ARE BLIND OR SEVERELY DISABLED

Procurement List Proposed Additions

AGENCY: Committee for Purchase From People Who Are Blind or Severely Disabled.

ACTION: Proposed additions to the Procurement List.

SUMMARY: The Committee is proposing to add products and services to the Procurement List that will be furnished by nonprofit agencies employing persons who are blind or have other severe disabilities.

Comments Must Be Received On or Before: 5/14/2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to the Procurement List for production by the nonprofit agencies listed:

Products

NSN: MR 355—Set, Serving Set, Party Traveling.

NSN: MR 927—Set, Brush and Caddy, Contour Bowl.

NPA: Industries for the Blind, Inc., West Allis, WI.

Contracting Activity: Military Resale-Defense Commissary Agency, Fort Lee, VA.

Coverage: C-List for the requirements of military commissaries and exchanges as aggregated by the Defense Commissary Agency.

Services

Service Type/Location:

Janitorial Services, Engineering Research & Development Center, Construction Engineering Research Lab (ERDC-CERL), 2902 Newmark Drive, Champaign, IL.

AT&T Building, 3001 Newmark Drive, Champaign, IL.

NPA: The Chicago Lighthouse for People Who Are Blind or Visually Impaired, Chicago, IL.

Contracting Activity: Dept of the Army, XU W2R2 Const Engrg Lab, Champaign, IL.

Service Type/Locations:

Latrine Services, Stryker Overflow Lot, Railroad Avenue, Joint Base Lewis-McChord, WA.

Stryker National Logistics Center, Building 2701 C Street SW., Auburn, WA.

NPA: Skookum Educational Programs, Bremerton, WA.

Contracting Activity: Dept of the Army, W4GG HQ US Army TACOM, Warren, MI.

Barry S. Lineback
Director, Business Operations.

[FR Doc. 2012-8904 Filed 4-12-12; 8:45 am]

BILLING CODE 6353-01-P